FEDERAL MINE SAFETY AND HEALTH REVIEW COMMISSION

Senior Executive Service; Performance Review Board

AGENCY: Federal Mine Safety and Health Review Commission.

ACTION: Notice.

SUMMARY: This notice announces the appointment of the members of the Performance Review Board (PRB) for the Federal Mine Safety and Health Review Commission. The PRB reviews the performance appraisals of career and non-career senior executives. The PRB makes recommendations regarding proposed performance appraisals, ratings, bonuses, pay adjustments, and other appropriate personnel actions.

DATES: Applicable on January 5, 2022.

FOR FURTHER INFORMATION CONTACT: Lisa Boyd, Executive Director, Federal Mine Safety and Health Review Commission, (202) 434-9910.

SUPPLEMENTARY INFORMATION: This Notice announces the appointment of the following primary and alternate members to the Federal Mine Safety and Health Review Commission PRB:

Primary Members

Michael Cundiff, Mike.Cundiff@fiscal.treasury.gov, Office of Shared Services

Jason Hill, Jason.Hill@fiscal.treasury.gov, Office of Shared Services

Marisa Anthony, Marisa.Anthony@fiscal.treasury.gov, Fiscal Accounting Operations

Alternate Members

None.

Authority: 5 U.S.C. 4313(c)(4).

Lisa Boyd,
Executive Director, Federal Mine Safety and Health Review Commission.

[FR Doc. 2021-28535 Filed 1-4-22; 8:45 am]

BILLING CODE 6735-01-P